DEPARTMENT OF THE INTERIOR

Bureau of Land Management

[AK-962-1410-HY-P; AA-50379-26]

Alaska Native Claims Selection

AGENCY: Bureau of Land Management, DOI.

ACTION: Notice of decision approving lands for conveyance.

SUMMARY: Notice is hereby given that an appealable decision approving lands for conveyance pursuant to secs. 14(e) and 22(f) of the Alaska Native Claims Settlement Act, 43 U.S.C., 1613(e) and 1621(f), and sec. 1302(h) of the Alaska National Interest Lands Conservation Act of December 2, 1980, (ANILCA), 16 U.S.C. 3192(h), and sec. 1430(a) of the ANILCA, Pub. L. 96-487, 94 stat. 2531 and will be issued to the Chugach Alaska Corporation for secs. 34 and 35, T. 12 S., R. 6 W., Copper River Meridian, Alaska. Notice of the decision will also be published four times in the Cordova Times.

DATES: The time limits for filing an appeal are:

1. Any party claiming a property interest which is adversely affected by the decision shall have until December 21, 2001 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7599.

FOR FURTHER INFORMATION CONTACT: Chris Sitbon (907) 271-3226.

Authority: 43 CFR 2650.7(d).

Chris Sitbon,
Land Law Examiner.

[FR Doc. 01-29025 Filed 11-20-01; 8:45 am]

BILLING CODE 4310-$$-P